DEPARTMENT OF ENERGY

Federal Energy Regulatory Commission

Notice of Intent To Surrender License

Take notice that the following hydroelectric application has been filed with the Commission and is available for public inspection:

a. Application Type: Surrender of License.

b. Project No.: P-1986-010.

c. Date Filed: September 29, 2000.

d. Applicant: Oregon Trail Electric Consumers Cooperative, Inc. (Oregon Trail).

e. Name of Project: Rock Creek Hydroelectric Project.

f. Location: The project is located on Rock Creek, a tributary of the Powder River, in Baker County, Oregon.

g. Filed Pursuant to: Federal Power Act, 16 U.S.C. 791(a)-825(r).

h. Applicant Contact: David Justice, Oregon Trail Electric Consumers Cooperative, Inc., 4005 23rd Street, Baker City, Oregon 97814.

i. FERC Contact: Shannon Dunn at shannon.dunn@ferc.fed.us, or telephone (202) 208-0853.

j. Deadline for filing comments, motions, or protests: December 3, 2000.

All documents (original and eight copies) should be filed with: David P. Boergers, Secretary, Federal Energy Regulatory Commission, 888 First Street, NE., Washington, DC 20426. Please include the project number (P-1986-010) on any comments or motions filed. Comments and protests may be filed electronically via the internet in lieu of paper. See, 18 CFR 385.2001(a)(1)(iii) and the instructions on the Commission's web site athttp://www.ferc.fed.us/efi/doorbell.htm.

k. Description of Project: Oregon Trail requests to surrender its license for the Rock Creek Hydroelectric Project No. 1986. The project consists of: (a) a five-foot-tall, 70-foot-long concrete diversion dam/intake structure on Rock Creek; (b) an 8,800-foot-long wooden flume; (c) a 15-foot-tall, 500-foot-long earthfill dam; (d) a 2,720-foot-long penstock; (e) a powerhouse containing two 400 kW generators; (f) a tailrace returning flows to Rock Creek; and appurtenant facilities.

l. Locations of the application: A copy of the application is available for inspection and reproduction at the Commission's Public Reference Room, located at 888 First Street, NE, Room 2A, Washington, DC 20426, or by calling (202) 208-1371. The application may be viewed on the web at www.ferc.fed.us. Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-28468 Filed 11-6-00; 8:45 am]

BILLING CODE 6717-01-M